INTERNATIONAL TRADE COMMISSION

[Investigation No. 337-Ta-849]

Certain Rubber Resins and Processes for Manufacturing Same; Commission Determination To Affirm-in-Part and Reverse-in-Part the Final Initial Determination of the Administrative Law Judge and To Terminate the Investigation With a Finding of Violation With Respect to Certain Respondents; Issuance of Limited Exclusion Order

AGENCY: U.S. International Trade Commission.

ACTION: Notice.

SUMMARY: Notice is hereby given that the U.S. International Trade Commission has determined to affirm-in-part and reverse-in-part the final initial determination (“final ID”) of the administrative law judge (“ALJ”) in the above-identified investigation and to terminate the investigation with a finding of violation with respect to certain respondents. The Commission has issued a limited exclusion order.

FOR FURTHER INFORMATION CONTACT: James A. Worth, Office of the General Counsel, U.S. International Trade Commission, 500 E Street SW., Washington, DC 20436, telephone 202-205-3065. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on June 26, 2012, based on a complaint filed on behalf of SI Group, Inc. of Schenectady, New York (“SI Group”) on May 21, 2012, as supplemented on June 12, 2012. 77 FR 38083-84 (June 26, 2012). The complaint alleged violations of Section 337 of the Tariff Act of 1930, as amended, 19 U.S.C. 1337 (“Section 337”), in the sale for importation, importation, or sale after importation into the United States of certain rubber resins by reason of misappropriation of trade secrets, the threat or effect of which is to destroy or substantially injure an industry in the United States. The Commission's notice of investigation named as respondents Red Avenue Chemical Corp. of America of Rochester, New York; Thomas R. Crumlish, Jr. of Rochester, New York; Precision Measurement International LLC of Westland, Michigan; Sino Legend (Zhangjiagang) Chemical Co., Ltd. of Zhangjiagang City, China; Sino Legend Holding Group, Inc. c/o Mr. Richard A. Peters of Kowloon, Hong Kong; Sino Legend Holding Group Ltd. of Hong Kong; HongKong Sino Legend Group, Ltd. of North Point, Hong Kong; Red Avenue Chemical Co. Ltd. of Shanghai, China; Ning Zhang of North Vancouver, Canada; Quanhai Yang of Beijing, China; and Shanghai Lunsai International Trading Company of Shanghai City, China. A Commission investigative attorney participated in this investigation.

On January 14, 2013, the Commission issued notice of its determination not to review an ID to amend the complaint and notice of investigation to add Red Avenue Group Limited of Kowloon, Hong Kong; Sino Legend Holding Group Inc. of Majuro, Marshall Islands; Gold Dynasty Limited c/o ATC Trustees (Cayman) Limited of Grand Cayman, Cayman Islands; Elite Holding Group Inc. c/o Morgan & Morgan Trust Corporation (Belize) Limited of Belize City, Belize as respondents. 78 FR 3817-18 (January 17, 2013).

On June 17, 2013, the presiding ALJ issued his final ID, finding a violation of Section 337. On July 1, 2013, SI and the Respondents filed petitions for review. On July 9, 2013, SI, the Respondents, and the Commission investigative attorney filed responses thereto. On July 16, 2013, Respondents filed a notice of new authority. On July 24, 2013, the Complainant submitted an objection to the notice of new authority.

The following parties and members of the public have submitted statements on the public interest: the Complainant (July 17, 2013); the New York State Chemical Alliance (August 14, 2013); and the American Chemistry Council (August 14, 2013).

On September 9, 2013, the Commission issued notice of its determination to review the final ID in its entirety and to solicit briefing on the issues on review and on remedy, the public interest, and bonding. 78 FR 56734-36 (Sept. 13, 2013). On September 23, 2013, each of the parties filed a written submission, and on September 30, 2013, each of the parties filed a reply submission.

After considering the written submissions on review and the record in this investigation, the Commission has determined to affirm-in-part and reverse-in-part the final ID of the ALJ and to terminate the investigation with a finding of violation of Section 337. Specifically, the Commission has found the following respondents in violation: Precision Measurement International LLC of Westland, Michigan; Sino Legend (Zhangjiagang) Chemical Co., Ltd. of Zhangjiagang City, China; Sino Legend Holding Group, Inc. of Kowloon, Hong Kong; Sino Legend Holding Group Ltd. of Hong Kong; Red Avenue Chemical Co. Ltd. of Shanghai, China; Shanghai Lunsai International Trading Company of Shanghai City, China; Red Avenue Group Limited of Kowloon, Hong Kong; and Sino Legend Holding Group Inc. of Majuro, Marshall Islands. After considering the submissions of the parties on remedy, the public interest, and bonding, the Commission has determined to issue a limited exclusion order for a period of ten (10) years prohibiting the unlicensed importation of rubber resins made using any of the SP-1068 Rubber Resin Trade Secrets that are manufactured by, for, or on behalf of violating respondents or any of their affiliated companies, parents, subsidiaries, licensees, contractors, or other related business entities, or their successors or assigns. The Commission has determined that the public interest factors of 19 U.S.C. 1337(d) do not preclude the issuance of a remedy. The Commission has further determined that the covered products may be imported during the period of Presidential review pursuant to 19 U.S.C. 1337(j) under bond in the amount of 19% of entered value.

The authority for the Commission's determination is contained in section 337 of the Tariff Act of 1930, as amended (19 U.S.C. 1337), and in part 210 of the Commission's Rules of Practice and Procedure (19 CFR part 210).

Dated: January 15, 2014.
By order of the Commission.
Lisa R. Barton,
Acting Secretary to the Commission.

[FR Doc. 2014-01109 Filed 1-21-14; 8:45 am]

BILLING CODE 7020-02-P